DEPARTMENT OF ENERGY

Federal Energy Regulatory Commission

[Docket No. RP00-97-001]

Southern Natural Gas Company; Notice of GSR Filing

April 5, 2000.

Take notice that on March 31, 2000, Southern Natural Gas Company (Southern) made a filing in accordance with Article VII of the Stipulation and Agreement in Docket Nos. RP89-224-012, et al. (Settlement) approved by Commission order on September 29, 1995 to update its GSR surcharge. Under Article VII, Southern is required to adjust the GSR volumetric surcharge that was placed into effect January 1, 2000, based on actual GSR costs incurred and the actual GSR revenues collected in 1999 from parties supporting the Settlement. As a result of updating the information through the end of 1999 Southern proposes to retain the $.0004/Dth GSR volumetric surcharge which was placed in effect on January 1, 2000.

Southern states that copies of the filing were served upon all parties listed on the official service list compiled by the Secretary in these proceedings.

Any person desiring to protest this filing should file a protest with the Federal Energy Regulatory Commission, 888 First Street, NE, Washington, DC 20426, in accordance with section 385.211 of the Commission's Rules and Regulations. All such protestst must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-8908 Filed 4-10-00; 8:45 am]

BILLING CODE 6717-01-M